COMMISSION ON CIVIL RIGHTS

Sunshine Act Notice

AGENCY: United States Commission on Civil Rights.

ACTION: Notice of meeting.

DATE AND TIME: Monday, December 19, 2011; 1 p.m. EST.

PLACE: 624 Ninth Street NW., Room 540, Washington, DC 20425.

Meeting Agenda

This meeting is open to the public.

I. Approval of Agenda

II. Approval of the November 18, 2011 Meeting Minutes

III. Program Planning Update and Discussion of Projects:

• Update on 2012 Statutory Enforcement Report Planning

IV. Management and Operations:

• Staff Director's Report

• Chief of Regional Programs Report

V. State Advisory Committee Issues:

• Re-Chartering the Hawaii SAC

• New Chair for Alaska

• New Chair for North Dakota

VI. Adjourn

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: December 5, 2011.
Kimberly A. Tolhurst,
Senior Attorney-Advisor.

[FR Doc. 2011-31502 Filed 12-5-11; 11:15 am]

BILLING CODE 6335-01-P